DEPARTMENT OF HEALTH AND HUMAN SERVICES

Centers for Medicare & Medicaid Services

[Document Identifier: CMS-1557 and CMS-1880/1882 and CMS 10142]

Agency Information Collection Activities: Proposed Collection; Comment Request

AGENCY: Centers for Medicare & Medicaid Services, HHS.

In compliance with the requirement of section 3506(c)(2)(A) of the Paperwork Reduction Act of 1995, the Centers for Medicare & Medicaid Services (CMS) is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: Extension of a currently approved collection; Title of Information Collection: Survey Report Form Clinical Laboratory Improvement Amendments (CLIA) and supporting regulations under 42 CFR 493.1-493.2001; Form Number: CMS-1557 (OMB#: 0938-0544); Use: This form is used by the State agency to determine a laboratory's compliance with CLIA. This information is needed for a laboratory's CLIA certification and recertification; Frequency: Recordkeeping and Reporting—Biennially; Affected Public: Business or other for-profit, Not-for-profit institutions, Federal, State, Local or Tribal Government; Number of Respondents: 25,000; Total Annual Responses: 12,500; Total Annual Hours: 6,250.

2. Type of Information Collection Request: Extension of a currently approved collection; Title of Information Collection: The Request for Certification as a Supplier of Portable X-Ray Services and Portable X-Ray Survey Report Form under the Medicare and Medicaid Program—Portable X-Ray Survey Report and Supporting Regulations under 42 CFR 486.100-486.110; Form Number: CMS-1880/1882 (OMB#: 0938-0027); Use: The Medicare program requires portable X-ray suppliers to be surveyed for health and safety standards. The CMS-1882 is the survey form that records survey results. The CMS-1880 is used by the surveyor to determine if a portable X-ray applicant meets the eligibility requirements. This information serves as a screen for the State survey agency to determine if the portable X-ray supplier has the basic capabilities to participate in the Medicare program. CMS will use this information to make certification decisions; Frequency: Reporting—On occasion; Affected Public: Business or other for-profit; Number of Respondents: 655; Total Annual Responses: 98; Total Annual Hours: 172.

3. Type of Information Collection Request: Extension of a currently approved collection; Title of Information Collection: Bid Pricing Tool (BPT) for Medicare Advantage and Prescription Drug Plans (PDP) contained in 42 Code of Federal Regulation (CFR): 422.250, 422.252, 422.254, 422.256, 422.258, 422.262, 422.264, 422.266, 422.270, 422.300, 422.304, 422.306, 422.308, 422.310, 422.312, 422.314, 422.316, 422.318, 422.320, 422.322, 422.324, 423.251, 423.258, 423.265, 423.272, 423.279, 423.286, 423.293, 423.301, 423.308, 423.315, 423.322, 423.329, 423.336, 423.343, 423.346, 423.350 ; Form Number: CMS-10142 (OMB#: 0938-0944); Use: Under the Medicare Modernization Act, Medicare Advantage Organizations (MAO) and Prescription Drug Plans (PDP) are required to submit an actuarial pricing bid to CMS for approval. The BPT software is used by MAOs and PDPs to price their plan benefit package. The BPT software is used by CMS to review and approve the plan pricing proposed by each organization; Frequency: Reporting “ On occasion, Annually and As required by new legislation; Affected Public: Business or other for-profit and not-for-profit institutions; Number of Respondents: 350; Total Annual Responses: 350; Total Annual Hours: 12,050.

To obtain copies of the supporting statement and any related forms for the proposed paperwork collections referenced above, access CMS” Web site address at http://www.cms.hhs.gov/regulations/pra/, or E-mail your request, including your address, phone number, OMB number, and CMS document identifier, to Paperwork@cms.hhs.gov, or call the Reports Clearance Office on (410) 786-1326.

To be assured consideration, comments and recommendations for the proposed information collections must be received at the address below, no later than 5 p.m. on December 6, 2005.

CMS, Office of Strategic Operations and Regulatory Affairs, Division of Regulations Development, Attention: Melissa Musotto, Room C4-26-05, 7500 Security Boulevard, Baltimore, Maryland 21244-1850.

Dated: September 30, 2005.
Michelle Shortt,
Director, Regulations Development Group, Office of Strategic Operations and Regulatory Affairs.

[FR Doc. 05-20228 Filed 10-6-05; 8:45 am]

BILLING CODE 4120-01-P